DEPARTMENT OF JUSTICE

Antitrust Division

Notice Pursuant to the National Cooperative Research and Production Act of 1993—Advanced Media Workflow Association, Inc. (Formerly AAF Association, Inc.)

Notice is hereby given that, on June 22, 2007, pursuant to Section 6(a) of the National Cooperative Research and Production Act of 1993, 15 U.S.C. 4301 et seq. (“the Act”), AAF Association, Inc. has filed written notifications simultaneously with the Attorney General and the Federal Trade Commission disclosing that it has changed its name and made changes in its membership. The notifications were filed for the purpose of extending the Act's provisions limiting the recovery of antitrust plaintiffs to actual damages under specified circumstances.

AAF Association, Inc. has changed its name to: Advanced Media Workflow Association, Inc. In addition, Arbitron, Inc., Columbia, MD; Closed Captioning Service, Inc., Burbank, CA; Convergent Media Labs, Marina del Ray, CA; DG FastChannel, Irving, TX; Digital Laundry, New York, NY; Digital Vision, London, United Kingdom; eBus Limited, Auckland, New Zealand; Filmlight, Harbord, New South Wales, Australia; Harris Corporation, Colorado Springs, CO; National TeleConsultants, Glendale, CA; Protability4Media, Achnasheen, United Kingdom; Pro-Bel, Reading, United Kingdom; SGI Japan, Tokyo, Japan; and TMD Ltd., Aylesbury, United Kingdom have been added as parties to this venture. Also, CANVASs Co. Ltd., Tokyo, Japan; i-Yuno Global, Seoul, Republic of Korea; and Visible World, New York, NY have withdrawn as parties to this venture.

No other changes have been made in either the membership or planned activity of the group research project. Membership in this group research project remains open, and Advanced Media Workflow Association, Inc. intends to file additional written notifications disclosing all changes in membership.

On March 28, 2000, Advanced Media Workflow Association, Inc. filed its original notification pursuant to Section 6(a) of the Act. The Department of Justice published a notice in the Federal Register pursuant to Section 6(b) of the Act on June 29, 2000 (65 FR 40127).

The last notification was filed with the Department on March 21, 2007. A notice was published in the Federal Register pursuant to Section 6(b) of the Act on May 7, 2007 (72 FR 25780).

Patricia A. Brink,
Deputy Director of Operations, Antitrust Division.

[FR Doc. 07-4435 Filed 9-10-07; 8:45 am]

BILLING CODE 4410-11-M